DEPARTMENT OF COMMERCE

Patent and Trademark Office

[Docket No. 2002-C-002]

Notice of Change in Publication Format for the Official Gazette of the United States Patent and Trademark Office—Patents

AGENCY: Patent and Trademark Office, Commerce.

ACTION: Notice.

SUMMARY: Notice is hereby given that the United States Patent and Trademark Office (USPTO) will discontinue the publication of the paper version of the Official Gazette of the United States Patent and Trademark Office—Patents. Electronic publication via CD-ROM and Internet versions (the eOG:P) will replace the printed copy.

DATES: The last publication of the paper version will be September 24, 2002. The electronic publication of the CD-ROM will commence October 1, 2002.

SUPPLEMENTARY INFORMATION:

Background

The USPTO has published the Official Gazette of the United States Patent and Trademark Office—Patents since 1872 and it has historically served as the official notification of patent issuance. The Official Gazette—Patents is published weekly in conjunction with the issuance of patents. Entries in the Official Gazette—Patents contain patent bibliographic information such as inventor name(s), assignee name (if applicable), patent number, patent title, and classification. The entry also contains a representative claim and drawing (if applicable). Each weekly issue also includes an alphabetical index of patentees.

Explanation and Advantages of Change

In view of the widespread access to computers and the Internet and in accordance with the Paperwork Reduction Act of 1995, the USPTO will discontinue the printed copy distribution of the Official Gazette—Patents, effective October 1, 2002. Weekly electronic publication via CD-ROM and Internet versions (the eOG:P) will replace the paper. Beginning with the July 2, 2002, issue, the eOG:P and printed copy will be published on a concurrent basis until the paper version is discontinued.

The information provided by the electronic products will be unchanged from the traditional printed copy. Users will continue to browse patents by classification or patent type. However, the advantages offered by an electronic format will enable easier access to the information. Some of these advantages include: A cumulative patentee and assignee index regardless of patent type, in addition to the standard separate patentee indexes by patent type; direct links from the patentee index entry to the image of the patent; the addition of patentees by country to the geographical index by state; direct links to the patents by state or country; direct links to the patent from classification; and the addition of plant patent images. The electronic information can be easily printed or saved for future use.

The eOG:P on CD-ROM will be published and distributed close to issue date. The CD-ROM product will be available from the Information Products Division, Chief Information Officer, United States Patent and Trademark Office, as an annual subscription for $300 per year and as single copies for $15 per issue.

The eOG:P will also be available on the USPTO Web site at www.uspto.gov/web/patents/patog/ each Tuesday, beginning July 2, 2002.

The USPTO will continue paper publication of the Official Gazette—Trademarks, the Official Gazette Notices and the Consolidated Listing of Official Gazette Notices.

FOR FURTHER INFORMATION CONTACT: Information Products Division at 703-306-2600.

Dated: July 16, 2002.
James E. Rogan,
Under Secretary of Commerce for Intellectual Property and Director of the United States Patent and Trademark Office.

[FR Doc. 02-18478 Filed 7-22-02; 8:45 am]

BILLING CODE 3510-16-P